DEPARTMENT OF DEFENSE

Department of the Air Force

[Docket ID USAF-2008-0035]

Privacy Act of 1974; System of Records

AGENCY: Department of the Air Force, DoD.

ACTION: Notice to Alter a System of Records Notice.

SUMMARY: The Department of the Air Force proposes to alter a system of records notice to its inventory of records systems subject to the Privacy Act of 1974 (5 U.S.C. 552a), as amended.

DATES: The actions will be effective on December 17, 2008 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on November 7, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 7, 2008.
Patricia L. Toppings,
OSD Federal Register Liaison Officer, Department of Defense.

F051 AF JA C

System name:

Legal Assistance Administration (June 11, 1997, 62 FR 31793).

* * * * *

Changes:

* * * * *

System location:

Delete entry and replace with “The Judge Advocate General, Headquarters United States Air Force, 1420 Air Force Pentagon, Washington, DC 20330-1420. At Headquarters of major commands and at all levels down to and including Air Force installations.

Official mailing addresses are published as an appendix to the Air Force's compilation of record systems notices.”

* * * * *

Categories of records in the system:

Delete entry and replace with “Individual's name, Social Security Number (SSN), financial records, personnel files, leases, tax documents, personal letters and documents, and all other information necessary to provide advice and assistance to personnel seeking legal assistance.”

Authority for maintenance of the system:

Delete entry and replace with “10 U.S.C. 8013, Secretary of the Air Force; 10 U.S.C. 8037, Judge Advocate General, Deputy Judge Advocate General: Appointment and duties; Air Force Instruction 51-504, Legal Assistance, Notary, and Preventive Law Programs; and E.O. 9397(SSN).”

Purpose(s):

Delete entry and replace with “Records are used and maintained to provide continuing legal assistance to clients; by Department of Defense employees to complete their official duties; to manage the legal assistance program; and used to assist the client with personal legal issues.”

* * * * *

Storage:

Delete entry and replace with “Paper records in file folders and electronic storage media.”

* * * * *

Safeguards:

Delete entry and replace with “Records are accessed by person(s) responsible for servicing the record system in performance of their official duties and by authorized personnel who are properly screened and cleared for need-to-know. Records are stored in locked rooms and cabinets. Those in computer storage devices are protected by computer system software. Computers must be accessed with a password.”

* * * * *

System manager(s) and address:

Delete entry and replace with “The Judge Advocate General, Headquarters, United States Air Force, 1420 Air Force Pentagon, Washington, DC 20330-1420.”

Notification procedure:

Delete entry and replace with “Individuals seeking to determine whether this system of records contains information on themselves should address written inquiries to The Judge Advocate General, Headquarters United States Air Force, 1420 Air Force Pentagon, Washington, DC 20330-1420.

Requests should include name and Social Security Number (SSN).”

Record access procedures:

Delete entry and replace with “Individuals seeking to access records about themselves contained in this system should address written requests to The Judge Advocate General, Headquarters United States Air Force, 1420 Air Force Pentagon, Washington, DC 20330-1420.

Requests should include name and Social Security Number (SSN).”

* * * * *

Record source categories:

Delete entry and replace with “From the individual.”

* * * * *

F051 AF JA C

System name:

Legal Assistance Administration Records.

System location:

The Judge Advocate General, Headquarters United States Air Force, 1420 Air Force Pentagon, Washington, DC 20330-1420-1420. At Headquarters of major commands and at all levels down to and including Air Force installations.

Official mailing addresses are published as an appendix to the Air Force's compilation of record systems notices.

Categories of individuals covered by the system:

Active duty and retired military personnel, and their dependents and Air Force civilian personnel stationed overseas.

Categories of records in the system:

Individual's name, Social Security Number (SSN), financial records, personnel files, leases, tax documents, personal letters and documents, and all other information necessary to provide advice and assistance to personnel seeking legal assistance.

Authority for maintenance of the system:

10 U.S.C. 8013, Secretary of the Air Force; 10 U.S.C. 8037, Judge Advocate General, Deputy Judge Advocate General: Appointment and duties; Air Force Instruction 51-504, Legal Assistance, Notary, and Preventive law Programs; and E.O. 9397(SSN).

Purpose(s):

Records are used and maintained to provide continuing legal assistance to clients; by Department of Defense employees to complete their official duties; to manage the legal assistance program; and used to assist the client with personal legal issues.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the Air Force's compilation of systems of records notices apply to this system.

Policies and practices for storing, retrieving, accessing, retaining, and disposing of records in the system:

Storage:

Paper records in file folders and electronic storage media.

Retrievability:

Retrieved by name or Social Security Number (SSN).

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Retained in office files until superseded, obsolete, no longer needed for reference, or on inactivation, then destroyed by tearing into pieces, shredding, pulping, macerating, or burning. Computer records are destroyed by erasing, deleting or overwriting.

System manager(s) and address:

The Judge Advocate General, Headquarters, United States Air Force, 1420 Air Force Pentagon, Washington, DC 20330-1420.

Notification procedure:

Individuals seeking to determine whether this system of records contains information on themselves should address written inquiries to The Judge Advocate General, Headquarters United States Air Force, 1420 Air Force Pentagon, Washington, DC 20330-1420.

Requests should include name and Social Security Number (SSN).

Record access procedures:

Individuals seeking to access records about themselves contained in this system should address written requests to The Judge Advocate General, Headquarters United States Air Force, 1420 Air Force Pentagon, Washington, DC 20330-1420.

Requests should include name and Social Security Number (SSN).

Contesting record procedures:

The Air Force rules for accessing records, and for contesting contents and appealing initial agency determinations are published in Air Force Instruction 37-132; 32 CFR 806b; or may be obtained from the system manager.

Record source categories:

From the individual.

Exemptions claimed for the system:

None.

[FR Doc. E8-27199 Filed 11-14-08; 8:45 am]

BILLING CODE 5001-06-P